DEPARTMENT OF COMMERCE

International Trade Administration

[C-533-818, C-560-806, C-580-837]

Certain Cut-to-Length Carbon-Quality Steel Plate From India, Indonesia, and the Republic of Korea: Final Results of Expedited Fourth Sunset Reviews of Countervailing Duty Orders

AGENCY: Enforcement and Compliance, International Trade Administration, Department of Commerce.

SUMMARY: The U.S. Department of Commerce (Commerce) finds that revocation of the countervailing duty (CVD) orders on certain cut-to-length carbon-quality steel plate (CTL plate) from India, Indonesia, and the Republic of Korea (Korea) would be likely to lead to continuation or recurrence of a countervailable subsidy at the levels indicated in the “Final Results of Review” section of this notice.

DATES: Applicable June 9, 2023.

FOR FURTHER INFORMATION CONTACT: Kate Sliney, AD/CVD Operations, Office III, Enforcement and Compliance, International Trade Administration, U.S. Department of Commerce, 1401 Constitution Avenue NW, Washington, DC 20230; telephone: (202) 482-243.

SUPPLEMENTARY INFORMATION:

Background

On February 10, 2000, the U.S. Department of Commerce (Commerce) published the CVD orders on CTL plate from Korea, India and Indonesia.¹ On February 1, 2023, Commerce initiated sunset reviews of the Orders, pursuant to section 751(c) of the Tariff Act of 1930, as amended (the Act).² Commerce received notices of intent to participate in each of these reviews from the following domestic interested parties: Cleveland-Cliffs Inc. (Cleveland-Cliffs), Nucor Corporation (Nucor), and SSAB Enterprises LLC (SSAB) (collectively, the domestic interested parties) within the deadline specified in 19 CFR 351.218(d)(1)(i).³ The domestic interested parties claimed interested party status under section 771(9)(C) of the Act.⁴

¹ See Notice of Amended Final Determinations: Certain Cut-to-Length Carbon-Quality Steel Plate from India and the Republic of Korea; and Notice of Countervailing Duty Orders: Certain Cut-To-Length Carbon-Quality Steel Plate from France, India, Indonesia, Italy, and the Republic of Korea, 65 FR 6587 (February 10, 2000) (Orders).

² See Initiation of Five-Year (Sunset) Reviews, 88 FR 6700, (February 1, 2023).

³ See Cleveland-Cliff's Letter, “Five-Year (“Sunset”) Reviews Of Antidumping and Countervailing Duty Orders On Certain Cut-To-Length Carbon-Quality Steel Plate from India, Indonesia, and Korea: Notice Of Intent To Participate In Sunset Reviews,” dated February 9, 2023 (Cleveland-Cliffs Notice of Intent); see also Nucor's Letters, “Certain Cut-To-Length Carbon-Quality Steel Plate from Indonesia: Notice of Intent to Participate in Sunset Review,” dated February 15, 2023; “Certain Cut-To-Length Carbon-Quality Steel Plate from Indonesia: Notice of Intent to Participate in Sunset Review,” dated February 15, 2023; and “Certain Cut-To-Length Carbon-Quality Steel Plate from the Republic of Korea: Notice of Intent to Participate in Sunset Review,” dated February 15, 2023 (collectively, Nucor's Notice of Intent); “SSAB's Letters, “Notice of Intent to Participate in the Fourth Five-Year Review of the Countervailing Duty Order on Certain Cut-To-Length Carbon-Quality Steel Plate from Korea,” dated February 7, 2023; “Notice of Intent to Participate in the Fourth Five-Year Review of the Countervailing Duty Order on Certain Cut-To-Length Carbon-Quality Steel Plate from India,” dated February 7, 2023; and “Notice of Intent to Participate in the Fourth Five-Year Review of the Countervailing Duty Order on Certain Cut-To-Length Carbon-Quality Steel Plate from Indonesia,” dated February 7, 2023 (collectively, SSAB's Notice of Intent).

⁴ See Cleveland-Cliffs Notice of Intent at 2; see also Nucor's Notice of Intent at 2; and SSAB's Notice of Intent at 2.

Commerce received adequate substantive responses from the domestic interested parties within the 30-day deadline specified in 19 CFR 351.218(d)(3)(i).⁵ Commerce did not receive a substantive response from any government or respondent interested party to these proceedings. On March 23, 2023, Commerce notified the U.S. International Trade Commission that it did not receive an adequate substantive response from respondent interested parties.⁶ As a result, pursuant to section 751(c)(3)(B) of the Act and 19 CFR 351.218(e)(1)(ii)(C)(2), Commerce determined that the respondent interested parties did not provide an adequate response to the notice of initiation and, therefore, conducted expedited (120-day) sunset reviews of the Orders.

⁵ See Domestic Interested Parties' Letters, “Certain Cut-to-Length Carbon-Quality Steel Plate from the Republic of Korea: Substantive Response to Notice of Initiation of Sunset Review,” dated March 2, 2023; “Fourth Five-Year (“Sunset”) Review of the Countervailing Duty Order on Certain Cut-To-Length Carbon-Quality Steel Plate from India: Domestic Interested Parties' Substantive Response,” dated March 3, 2023; and “Five-Year (“Sunset”) Review Of Countervailing Duty Order On Certain Cut-To-Length Carbon-Quality Steel Plate from Indonesia: Domestic Industry Substantive Response,” dated February 27, 2023.

⁶ See Commerce's Letter, “Sunset Reviews Initiated on February 1, 2023,” dated March 23, 2023.

Scope of the Orders

The product covered by the Orders is certain cut-to-length carbon-quality steel plate from Korea, India and Indonesia. For a complete description of the scope of the Orders, see the Issues and Decision Memoranda.⁷

⁷ See Memoranda, “Issues and Decision Memorandum for the Final Results of the Fourth Expedited Sunset Review of the Countervailing Duty Order on Certain Cut-To-Length Carbon-Quality Steel Plate from the Republic of Korea,” dated concurrently with, and hereby adopted by, this notice; “Issues and Decision Memorandum for the Final Results of the Fourth Expedited Sunset Review of the Countervailing Duty Order on Certain Cut-to-Length Carbon-Quality Steel Plate from India,” dated concurrently with, and hereby adopted by, this notice; and “Issues and Decision Memorandum for the Final Results of the Fourth Expedited Sunset Review of the Countervailing Duty Order on Certain Cut-to-Length Carbon-Quality Steel Plate from Indonesia,” dated concurrently with, and hereby adopted by, this notice (collectively, Issues and Decision Memoranda).

Analysis of the Comments Received

A complete discussion of all issues raised in these sunset reviews, including the likelihood of continuation or recurrence of subsidization in the event of revocation of the Orders and the countervailable subsidy rates likely to prevail if the Orders were to be revoked, is provided in the Issues and Decision Memoranda. A list of topics discussed in each Issues and Decision Memoranda is included as the appendix to this notice. The Issues and Decision Memoranda are public documents and are on file electronically via Enforcement and Compliance's Antidumping and Countervailing Duty Centralized Electronic Service System (ACCESS). ACCESS is available to registered users at https://access.trade.gov. In addition, complete versions of the Issues and Decision Memorandum can be accessed directly at https://access.trade.gov/public/FRNoticesListLayout.aspx.

Final Results of Sunset Reviews

Pursuant to sections 751(c)(1) and 52(b) of the Act, Commerce determines that revocation of the CVD order on CTL plate from Korea would be likely to lead to continuation or recurrence of a countervailable subsidies at the following net countervailable subsidy rates:

Producers/exporters | Subsidy rate (percent ad valorem)
Dongkuk Steel Mill, Ltd. (DSM) | 2.02
All Others | 1.99

Pursuant to sections 751(c)(1) and 52(b) of the Act, Commerce determines that revocation of the CVD order on CTL plate from India would be likely to lead to continuation or recurrence of a countervailable subsidies at the following net countervailable subsidy rates:

Producers/exporters | Subsidy rate (percent ad valorem)
Steel Authority of India (SAIL) | 12.82
All Others | 12.82

Pursuant to sections 751(c)(1) and 52(b) of the Act, Commerce determines that revocation of the CVD order on CTL plate from Indonesia would be likely to lead to continuation or recurrence of a countervailable subsidies at the following net countervailable subsidy rates:

Producers/exporters | Subsidy rate (percent ad valorem)
P.T. Krakatau Steel | 47.71
All Others ⁸ | 15.90

Administrative Protective Order (APO)

⁸ P.T. Gunawan Steel and P.T. Jaya Pari were excluded from the CVD order because they received a de minimis net subsidy rate of 0.00 percent ad valorem. See Final Affirmative Countervailing Duty Determination: Certain Cut-to-Length Carbon-Quality Steel Plate from Indonesia, 64 FR 73155 (December 29, 1999).

This notice also serves as a reminder to parties subject to an APO of their responsibility concerning the disposition of proprietary information disclosed under APO in accordance with 19 CFR 351.305, which continues to govern business proprietary information in this segment of the proceeding. Timely notification of the return or destruction of APO materials or conversion to judicial protective order is hereby requested. Failure to comply with the regulations and the terms of an APO is a violation which is subject to sanction.

Notification to Interested Parties

Commerce is issuing and publishing these final results and this notice in accordance with sections 751(c), 752(b), and 777(i)(1) of the Act, and 19 CFR 351.218(e)(1)(ii)(C)(2).

Dated: May 25, 2023.
Lisa W. Wang,
Assistant Secretary for Enforcement and Compliance.

Appendix

List of Topics Discussed in the Issues and Decision Memoranda

I. Summary

II. Background

III. Scope of the Order

IV. History of the Order

V. Legal Framework

VI. Discussion of the Issues

1: Likelihood of Continuation of Recurrence of a Countervailable Subsidy

2: Net Countervailable Subsidy Rates Likely to Prevail

3: Nature of the Subsidy

VII. Final Results of Sunset Review

VIII. Recommendation

[FR Doc. 2023-12320 Filed 6-8-23; 8:45 am]

BILLING CODE 3510-DS-P